DEPARTMENT OF VETERANS AFFAIRS

[OMB Control No. 2900-0353]

Agency Information Collection Activity: Certification of Lessons Completed

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 28, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0353 in any correspondence.

FOR FURTHER INFORMATION CONTACT: Danny S. Green, Office of Enterprise Record Service (005R1B), Department of Veterans Affairs, 811 Vermont Avenue NW, Washington, DC 20420, (202) 421-1354 or email Danny.Green2@va.gov. Please refer to “OMB Control No. 2900-0353.”

SUPPLEMENTARY INFORMATION:

Authority: 44 U.S.C. 3501-3521, 38 U.S.C. 3032(d), 3034, 3241, 3323, 3474, 3481, 3484, 3534(b), 3680(b), 3684, 3686(a), and 10 U.S.C. 16131(e), 16136(b), chapter 31, section 510 and chapter 1607; 38 CFR 21.4203(e), 21.4206, 21.5200(d) & (g), 21.7140(c)(3), 21.7159, 21.7640(a)(4), 21.7659, and 21.9720.

Title: Certification of Lessons Completed VA Form 22-6553(b) and (b-1).

OMB Control Number: 2900-0353.

Type of Review: Extension of a currently approved collection.

Abstract: The Federal Register Notice with a 60-day comment period soliciting comments on this collection of information was published on May 21, 2018, at Vol. 83, FR No. 98, page 23530-23531.

Affected Public: Individuals and Households.

Estimated Annual Burden: 112 hours.

Estimated Average Burden per Respondent 10 minutes.

Frequency of Response: Three Annually.

Estimated Number of Respondents: 224.

By direction of the Secretary.
Danny S. Green,
Interim Department Clearance Officer, Office of Quality, Privacy and Risk, Department of Veterans Affairs.

[FR Doc. 2018-28083 Filed 12-26-18; 8:45 am]

BILLING CODE 8320-01-P